DEPARTMENT OF THE TREASURY

Internal Revenue Service

26 CFR Part 1

[REG-137125-08]

RIN 1545-BI65

Certain Employee Remuneration in Excess of $1,000,000 Under Internal Revenue Code Section 162(m); Correction

AGENCY: Internal Revenue Service (IRS), Treasury.

ACTION: Correction to notice of proposed rulemaking.

SUMMARY: This document contains a correction to a notice of proposed rulemaking (REG-137125-08) relating to the deduction limitation for certain employee remuneration in excess of $1,000,000 under the Internal Revenue Code. The document was published in the Federal Register on Friday, June 24, 2011 (76 FR 37034).

FOR FURTHER INFORMATION CONTACT: Concerning these proposed regulations, Ilya Enkishev at (202) 622-6030 (not a toll-free number).

SUPPLEMENTARY INFORMATION:

Background

The correction notice that is the subject of this document is under section 162 of the Internal Revenue Code.

Need for Correction

As published, a notice of proposed rulemaking (REG-137125-08) contains an error that may prove to be misleading and is in need of clarification.

Correction of Publication

Accordingly, the publication of a notice of proposed rulemaking (REG-137125-08), which was the subject of FR Doc. 2011-15653, is corrected as follows:

On page 37036, column 2, in the preamble, under the paragraph heading “Proposed Effective/Applicability Date”, the language “These regulations under section 162(m) are proposed to apply to taxable years ending on or after the date of publication of the Treasury decision adopting these rules as final regulation in the Federal Register.” is removed and is replaced with the new language “These proposed regulations will be effective upon publication in the Federal Register of a Treasury decision adopting these rules as final regulations.”.

LaNita Van Dyke,
Chief, Publications and Regulations Branch, Legal Processing Division, Associate Chief Counsel, (Procedure and Administration)

[FR Doc. 2011-22734 Filed 9-6-11; 8:45 am]

BILLING CODE 4830-01-P